DEPARTMENT OF DEFENSE

Office of the Secretary

[Docket ID DOD-2010-OS-0142]

Privacy Act of 1974; System of Records

AGENCY: Department of Defense (DoD).

ACTION: Notice to alter a system of records.

SUMMARY: The Office of the Secretary of Defense proposes to alter a system of records in its inventory of record systems subject to the Privacy Act of 1974 (5 U.S.C. 552a), as amended.

DATES: This proposed action will be effective without further notice on November 15, 2010, unless comments are received which result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from the Chief, OSD/JS Privacy Office, Freedom of Information Directorate, Washington Headquarters Services, 1155 Defense Pentagon, Washington DC 20301-1155.

The proposed system report, as required by 5 U.S.C. 552a(r) of the Privacy Act of 1974, as amended, was submitted on October 1, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: October 8, 2010.
Mitchell S. Bryman,
Alternate OSD Federal Register Liaison Officer, Department of Defense.

DWHS E05

System name:

Mandatory Declassification Review Files (March 28, 2007; 72 FR 14533).

Changes:

* * * * *

System location:

Delete entry and replace with “Chief, Records and Declassification Division, Executive Services Directorate, 1155 Defense Pentagon, Washington, DC 20301-1155.”

Categories of individuals covered by the system:

Delete entry and replace with, “Individuals who request Mandatory Declassification Review (MDR) or appeal a Mandatory Declassification Review determination. These include DoD, Executive Branch Agencies, public or contractors.”

Categories of records in the system:

Delete entry and replace with, “Name, address, and organization of person making MDR request or appeal, identification of records requested, dates and summaries of action taken.”

Authority for maintenance of the system:

Delete entry and replace with, “E.O. 13526, Classified National Security Information; DoD Instruction 5200.01, DoD Information Security Program and Protection of Sensitive Compartmented Information.”

Purpose(s):

Delete entry and replace with, “To process requests and/or appeals from individuals for the mandatory review of classified documents for the purposes of releasing declassified material to the public; and to provide a research resource of historical data on release of records to ensure consistency in subsequent actions. Data developed from this system is used for the annual report required by the applicable Executive Order(s) governing classified National Security Information. This data also serves management needs, by providing information about the number of requests; the type or category of records requested; and the average processing time.”

Routine uses of records maintained in the system, including categories of users and the purposes of such uses:

Delete entry and replace with, “In addition to those disclosures generally permitted under 5 U.S.C. 552a(b) of the Privacy Act of 1974, these records may specifically be disclosed outside the DoD as a routine use pursuant to 5 U.S.C. 552a(b)(3) as follows:

The DoD ‘Blanket Routine Uses’ set forth at the beginning of OSD's compilation of systems of records notices apply to this system.”

Policies and practices for storing, retrieving, accessing, retaining, and disposing of records in the system:

* * * * *

Safeguards:

Delete entry and replace with, “Paper records are maintained in a Defense Security vault, with all physical security requirements to ensure the protection of special compartmented information. Within the vault, the paper files are stored in security containers with access limited to officials having a need-to-know based on their assigned duties. Computer systems require Common Access Card (CAC) and passwords. Users are limited according to their assigned duties to appropriate access on a need-to-know basis.”

* * * * *

System manager(s) and address:

Delete entry and replace with, “Chief, Records and Declassification Division, Executive Services Directorate, 1155 Defense Pentagon, Washington, DC 20301-1155.”

Notification procedure:

Delete entry and replace with, “Individuals seeking to determine whether information about themselves is contained in this system of records should address written inquiries to Chief, Records and Declassification Division, Executive Services Directorate, 1155 Defense Pentagon, Washington, DC 20301-1155.

Written requests should include the individual's name and address of the individual at the time the record would have been created.”

Record access procedures:

Delete entry and replace with, “Individuals seeking access to information about themselves contained in this system of records should address written inquiries to the Office of the Secretary of Defense/Joint Staff, Freedom of Information Act Requester Service Center, Office of Freedom of Information, 1155 Defense Pentagon, Washington, DC 20301-1155.

Written requests should include the name and number of this system of records notice along with the individual's name and address of the individual at the time the record would have been created and be signed.”

* * * * *

Record source categories:

Delete entry and replace with, “The individual.”

* * * * *

DWHS E05

System name:

Mandatory Declassification Review Files.

System location:

Chief, Records and Declassification Division, Executive Services Directorate, 1155 Defense Pentagon, Washington, DC 20301-1155.

Categories of individuals covered by the system:

Individuals who request Mandatory Declassification Review (MDR) or appeal a Mandatory Declassification Review determination. These include DoD, Executive Branch Agencies, public or contractors.

Categories of records in the system:

Name, address, and organization of person making MDR request or appeal, identification of records requested, dates and summaries of action taken.

Authority for maintenance of the system:

E.O. 13526, Classified National Security Information; DoD Instruction 5200.01, DoD Information Security Program and Protection of Sensitive Compartmented Information.

Purpose(s):

To process requests and/or appeals from individuals for the mandatory review of classified documents for the purposes of releasing declassified material to the public; and to provide a research resource of historical data on release of records to ensure consistency in subsequent actions. Data developed from this system is used for the annual report required by the applicable Executive Order(s) governing classified National Security Information. This data also serves management needs, by providing information about the number of requests; the type or category of records requested; and the average processing time.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The DoD ‘Blanket Routine Uses' set forth at the beginning of OSD's compilation of systems of records notices apply to this system.

Policies and practices for storing, retrieving, accessing, retaining, and disposing of records in the system:

Storage:

Paper file folders and electronic storage media.

Retrievability:

Retrieved by name of requester and other pertinent information, such as organization or address, subject material describing the MDR item (including date), MDR request number using computer indices, referring agency, or any combination of fields.

Safeguards:

Paper records are maintained in a Defense Security vault, with all physical security requirements to ensure the protection of special compartmented information. Within the vault, the paper files are stored in security containers with access limited to officials having a need-to-know based on their assigned duties. Computer systems require Common Access Card (CAC) and passwords. Users are limited according to their assigned duties to appropriate access on a need-to-know basis.

Retention and disposal:

Files that grant access to records are held in current status for two years after the end of the calendar year in which created, then destroyed. Files pertaining to denials of requests are destroyed 5 years after final determination. Appeals are retained for 3 years after final determination.

System manager(s) and address:

Chief, Records and Declassification Division, Executive Services Directorate, 1155 Defense Pentagon, Washington, DC 20301-1155.

Notification procedure:

Individuals seeking to determine whether information about themselves is contained in this system of records should address written inquiries to Chief, Records and Declassification Division, Executive Services Directorate, 1155 Defense Pentagon, Washington, DC 20301-1155.

Written requests should include the individual's name and address of the individual at the time the record would have been created.

Record access procedures:

Individuals seeking access to information about themselves contained in this system of records should address written inquiries to the Office of the Secretary of Defense/Joint Staff, Freedom of Information Act Requester Service Center, Office of Freedom of Information, 1155 Defense Pentagon, Washington, DC 20301-1155.

Written requests should include the name and number of this system of records notice along with the individual's name and address of the individual at the time the record would have been created and be signed.

Contesting record procedures:

The Office of the Secretary of Defense rules for accessing records, for contesting contents and appealing initial agency determinations are published in Office of the Secretary of Defense Administrative Instruction 81; 32 CFR part 311; or may be obtained from the system manager.

Record source categories:

The individual.

Exemptions claimed for the system:

None.

[FR Doc. 2010-25870 Filed 10-13-10; 8:45 am]

BILLING CODE 5001-06-P